ENVIRONMENTAL PROTECTION AGENCY

40 CFR Part 300

[FRL-6969-6]

National Oil and Hazardous Substance Pollution Contingency Plan; National Priorities List

AGENCY: Environmental Protection Agency.

ACTION: Notice of intent to delete the Salem Acres Superfund Site from the National Priorities List.

SUMMARY: The Environmental Protection Agency (EPA)—New England is issuing a notice of intent to delete the Salem Acres Superfund Site located in Salem, Massachusetts, from the National Priorities List (NPL) and requests public comments on this notice of intent. The NPL, promulgated pursuant to section 105 of the Comprehensive Environmental Response, Compensation, and Liability Act (CERCLA) of 1980, as amended, is found at Appendix B of 40 CFR Part 300 of the National Oil and Hazardous Substances Pollution Contingency Plan (NCP). The EPA and the Commonwealth of Massachusetts, through the Department of Environmental Protection, have determined that all appropriate response actions under have been completed. However, this deletion does not preclude future actions under Superfund.

In the “Rules and Regulations” Section of today's Federal Register, we are publishing a direct final deletion of the Salem Acres Superfund Site without prior notice of intent to delete because we view this as a noncontroversial revision and anticipate no adverse comment(s). We have explained our reasons for this deletion in the preamble to the direct final deletion. If we receive no adverse comment(s) on this notice of intent to delete or the direct final deletion, we will not take further action on this notice of intent to delete. If we receive adverse comment(s), we will withdraw the direct final deletion and it will not take effect. We will, as appropriate, address all public comments in a subsequent final deletion based on this notice of intent to delete. We will not institute a second comment period on this notice of intent to delete. Any parties interested in commenting must do so at this time. For additional information, see the direct final deletion which is located in the Rules section of this Federal Register.

DATES: Comments concerning this Site must be received by June 21, 2001.

ADDRESSES: Written comments should be addressed to: Stacy Greendlinger, Community Involvement Coordinator, U.S. EPA, One Congress Street, Suite 1100, (RAA), Boston, Massachusetts 02114-2023, (617) 918-1403 or 1-800-252-3402-toll-free.

FOR FURTHER INFORMATION CONTACT: Elaine Stanley, Remedial Project Manager, U.S. EPA, One Congress Street, Suite 1100, (HBO), Boston, Massachusetts 02114-2023, (617) 918-1332 or 1-800-252-3402-toll-free.

SUPPLEMENTARY INFORMATION: For additional information, see the Direct Final Deletion which is located in the Rules section of this Federal Register.

Information Repositories: Repositories have been established to provide detailed information concerning this decision at the following address: U.S. Environmental Protection Agency-New England Records Center, One Congress Street, Suite 1100, (HBS), Boston, Massachusetts 02114-2023, (617) 918-1440 or 1-800-252-3402-toll-free, Monday through Friday—9:00 a.m. to 5:00 p.m.; and the Salem Public Library, 370 Essex Street, Salem, Massachusetts 01970, (978) 744-0860, Monday through Thursday—9:00 a.m. to 9:00 p.m., Friday and Saturday—9:00 a.m. to 5:00 p.m. and Sunday—1 p.m. to 5:00 p.m.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: March 23, 2001.
Ira W. Leighton,
Acting Regional Administrator, U.S. EPA—New England.

[FR Doc. 01-12708 Filed 5-21-01; 8:45 am]

BILLING CODE 6560-50-P